ENVIRONMENTAL PROTECTION AGENCY

[EPA-HQ-SFUND-2004-0006; FRL-8519-9]

Agency Information Collection Activities; Submission to OMB for Review and Approval; Comment Request; Community Right-to-Know Reporting Requirements of the Emergency Planning and Community Right-to-Know Act (Renewal); EPA ICR No. 1352.11, OMB Control No. 2050-0072

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 25, 2008.

ADDRESSES: Submit your comments, referencing Docket ID No. EPA-HQ-SFUND-2004-0006, to (1) EPA online using www.regulations.gov (our preferred method), by e-mail to superfund.docket@epa.gov, or by mail to: EPA Docket Center, Environmental Protection Agency, Superfund Docket (Mail Code 2822T), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Sicy Jacob, Office of Emergency Management, 5104A, Environmental Protection Agency, 1200 Pennsylvania Ave., NW., Washington, DC 20460; telephone number: (202) 564-8019; fax number: (202) 564-2625; E-mail address: jacob.sicy@epa.gov.

SUPPLEMENTARY INFORMATION: EPA has submitted the following ICR to OMB for review and approval according to the procedures prescribed in 5 CFR 1320.12. On August 6, 2007 (72 FR 43636), EPA sought comments on this ICR pursuant to 5 CFR 1320.8(d). EPA received two comments during the comment period, which are addressed in the ICR. Any additional comments on this ICR should be submitted to EPA and OMB within 30 days of this notice.

EPA has established a public docket for this ICR under Docket ID No. EPA-HQ-SFUND-2004-0006, which is available for online viewing at www.regulations.gov, or in person viewing at the Superfund Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Superfund Docket is 202-566-0276.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

Title: Community Right-to-Know Reporting Requirements of the Emergency Planning and Community Right-to-Know Act (Renewal).

ICR numbers: EPA ICR No. 1352.11, OMB Control No. 2050-0072.

ICR Status: This ICR is scheduled to expire on January 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The authority for these requirements is sections 311 and 312 of the Emergency Planning and Community Right-to-Know Act (EPCRA), 1986 (42 U.S.C. 11011, 11012). EPCRA Section 311 requires owners and operators of facilities subject to OSHA Hazard Communication Standard (HCS) to submit a list of chemicals or Material Safety Data Sheets (MSDSs) (for those chemicals that exceed thresholds, specified in 40 CFR part 370) to the State Emergency Response Commission (SERC), Local Emergency Planning Committee (LEPC) and the local fire department (LFD) with jurisdiction over their facility. This is a one-time requirement unless a new facility becomes subject to the regulations or updating the information by facilities that are already covered by the regulations. EPCRA section 312 requires owners and operators of facilities subject to OSHA HCS to submit an inventory form (for those chemicals that exceed the thresholds, specified in 40 CFR part 370) to the SERC, LEPC, and LFD with jurisdiction over their facility. This form is to be submitted on March 1 of each year, on the inventory of chemicals in the previous calendar year.

Burden Statement: The annual average burden for MSDS reporting (basic and additional reporting) is estimated at 6.75 hours for new facilities. Additional reporting, which is to submit revised and new MSDSs for currently covered and new facilities is 2 hours. The average burden for new and currently covered facilities to submit MSDS upon request is 1 hour. The average burden to comply with Tier II inventory reporting for small, medium and large manufacturers is 8, 80 and 120 hours, respectively. The average burden to comply with Tier II inventory reporting for small, medium and large non-manufacturers is 6, 20, and 40 hours, respectively. There are no recordkeeping requirements for facilities under EPCRA sections 311 and 312, although it is assumed that they will maintain a copy of annual reports to use for future filings. The recordkeeping for MSDSs is mandated under OSHA rules.

The average burden for state and local governments to respond to requests for MSDSs or Tier II information under 40 CFR 370.30 is estimated to be one hour per request. The average burden for managing and maintaining the reports and MSDS files is estimated to be 32.50 hours. The average burden for maintaining and updating a 312 database is estimated to be 320 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Any facility owner or operator that is required to prepare or have a material safety data sheet (MSDS) for a hazardous chemical under OSHA Hazardous Communication Standard and if the chemical meets the threshold level specified in 40 CFR part 370. Some facilities include but are not limited to, chemical, petroleum, warehouse, food, paper mills, etc.

Estimated Number of Respondents: 353,552

Frequency of Response: Annually, on occasion

Estimated Total Annual Hour Burden: 3,792,432

Estimated Total Annual Cost: $207,454,485, includes $6,389,900 annualized capital or O&M costs.

Changes in the Estimates: There is an increase of 1,763,732 hours in the total estimated burden currently identified in the OMB Inventory of Approved ICR Burdens. EPA had contacted small, medium and large size facilities in both manufacturing and non-manufacturing sectors to develop this burden. In previous ICRs, the Agency only contacted small and medium size facilities and used a weighted average. For this ICR, EPA applied the burden reported by each sector that we contacted. There is a decrease of 209,948 in the estimated universe from the previous ICR. EPA believes that the universe estimates in this ICR are more accurate since most States now collect Tier II electronically so they were able to provide EPA with a better estimate of the number of facilities subject to sections 311 and 312 than was estimated in previous years.

Dated: January 17, 2008.
Sara Hisel-McCoy,
Director, Collection Strategies Division.

[FR Doc. E8-1187 Filed 1-23-08; 8:45 am]

BILLING CODE 6560-50-P